DEPARTMENT OF THE INTERIOR

Bureau of Indian Affairs

[178A2100DD/AAKC001030/A0A501010.999900 253G]

Agency Information Collection Activities: OMB Control Number 1076-0176; IDEIA Part B and C Child Count

AGENCY: Bureau of Indian Affairs, Interior.

ACTION: Notice of submission to OMB.

SUMMARY: In compliance with the Paperwork Reduction Act of 1995, the Bureau of Indian Education (BIE) is submitting to the Office of Management and Budget (OMB) a request for renewal for the collection of information for the Individuals with Disabilities Education Improvement Act (IDEIA) Part B and C Child Count. The information is currently authorized by OMB Control Number 1076-0176, which expires June 30, 2017.

DATES: Interested persons are invited to submit comments on or before July 31, 2017.

ADDRESSES: Please submit your comments to the Desk Officer for the Department of the Interior at the Office of Management and Budget, by facsimile to (202) 395-5806 or you may send an email to: OIRA_Submission@omb.eop.gov. Also please send a copy of your comments to Ms. Sue Bement, Bureau of Indian Education, 2001 Killebrew Drive—Suite 122, Bloomington, Minnesota, fax: (952) 851-5439 or email: sue.bement@bie.edu.

FOR FURTHER INFORMATION CONTACT: Ms. Sue Bement, telephone: (952) 851-5423. You may review the information collection request online at http://www.reginfo.gov. Follow the instructions to review Department of the Interior collections under review by OMB.

SUPPLEMENTARY INFORMATION:

I. Abstract

The IDEIA, 20 U.S.C. 1411(h)(4)(c) and 1443(b)(3) require Tribes and Tribal organizations to submit certain information to the Secretary of the Interior. Under the IDEIA, the U.S. Department of Education provides funding to the Secretary of the Interior for the coordination of assistance for special education and related services for Indian children from birth through age 5 with disabilities on reservations served by Bureau-funded schools. The Secretary of the Interior, through the BIE, then allocates this funding to Tribes and Tribal organizations based on the number of such children served. In order to allow the Secretary of the Interior to determine what amounts to allocate to whom, the IDEIA requires Tribes and Tribal organizations to submit information to Interior. The BIE collects this information on two forms, one for Indian children aged 3 through 5 covered by IDEIA Part B, and one for Indian children from birth to age 2 covered by IDEIA Part C.

In IDEIA Part B—Assistance for Education of All Children with Disabilities, 20 U.S.C. 1411(h)(4)(D) Tribes and Tribal organizations are required to use the funds to assist in child find, screening, and other procedures for the early identification of Indian children aged 3 through 5, parent training, and the provision of direct services. IDEIA Part C—Infants and Toddlers with Disabilities, 20 U.S.C. 1443(b)(4) likewise requires Tribes and Tribal organizations to use the fund to assist in child find, screening, and other procedures for early identification of Indian children under 3 years of age and for parent training and early intervention services.

II. Request for Comments

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0176.

Title: IDEIA Part B and Part C Child Count.

Brief Description of Collection: Indian Tribes and Tribal organizations served by elementary or secondary schools for Indian children operated or funded by the Departments of the Interior that receive allocations of funding under the IDEIA for the coordination of assistance for Indian children 0 to 5 years of age with disabilities on reservations must submit information to the BIE. The information must be provided on two forms. The Part B form addresses Indian children 3 to 5 years of age on reservations served by Bureau-funded schools. The Part C form addresses Indian children up to 3 years of age on reservations served by Bureau-funded schools. The information required by the forms includes counts of children as of a certain date each year.

Type of Review: Extension without change of currently approved collection.

Respondents: Indian Tribes and Tribal organizations.

Number of Respondents: 61 each year.

Number of Responses: 122 each year.

Frequency of Response: Twice (Once per year for each form).

Obligation to respond: Response is required to obtain a benefit.

Estimated Time per Response: 20 hours per form.

Estimated Total Annual Hour Burden: 2,440 hours.

Estimated Total Annual Non-Hour Dollar Cost: $0.

Elizabeth K. Appel,
Director, Office of Regulatory Affairs and Collaborative Action—Indian Affairs.

[FR Doc. 2017-13638 Filed 6-28-17; 8:45 am]

BILLING CODE 4337-15-P